DEPARTMENT OF TRANSPORTATION

Federal Aviation Administration

14 CFR Part 71

[Docket No. FAA-2008-0897; Airspace Docket No. 08-AWP-9]

RIN 2120-AA66

Amendment of Class E Airspace; Guam Island, GU, and Saipan Island, CQ

AGENCY: Federal Aviation Administration (FAA), DOT.

ACTION: Final rule.

SUMMARY: This action removes, renames and expands the Class E airspace areas serving Guam International Airport, Anderson AFB and Saipan Island. Additionally, this action will revoke the Saipan Island Class E surface area since it is no longer required, and expands other controlled airspace areas to protect aircraft conducting instrument approaches to Saipan International Airport. The FAA is taking this action to enhance the safety and management of aircraft operations in the vicinity of the Northern Mariana Islands.

DATES: Effective Date: 0901 UTC, May 7, 2009. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Background

On December 10, 2008, the FAA published in the Federal Register a notice of proposed rulemaking (NPRM) to amend Class E Airspace in Guam and Saipan Island (73 FR 75011). Interested parties were invited to participate in this rulemaking effort by submitting written comments on this proposal. No comments were received in response to the NPRM.

Class E airspace designations are published in paragraph 6005 of FAA Order 7400.9S signed October 3, 2008, and effective October 31, 2008, which is incorporated by reference in 14 CFR 71.1. The Class E airspace designations listed in this document will be published subsequently in the Order.

The Rule

The FAA is amending Title 14 Code of Federal Regulations (14 CFR) part 71 by modifying the Class E airspace at Guam and Saipan Islands. This action will revoke the Saipan Island Class E surface area since it is no longer required for operations and expands controlled airspace to protect aircraft conducting instruments approaches to Saipan International airport. In addition this action will remove, rename and expand the Class E airspace areas serving Guam International Airport, Anderson AFB, and renames Guam Island Class E airspace to Northern Mariana Islands Class E airspace. Controlled airspace is necessary to accommodate Instrument Flight Rules aircraft operations and enhances the safety and management of aircraft operations in the Northern Mariana Islands.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes controlled airspace at Guam and Saipan Islands.

Environmental Review

The FAA has determined that this action qualifies for categorical exclusion under the National Environmental Policy Act in accordance with 311a., FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9S Airspace Designations and Reporting Points, signed October 3, 2008, and effective October 31, 2008, is amended as follows:

Paragraph 6002 Class E Airspace Designated as Surface Areas.

* * * * *

AWP CQ E2 Saipan Island, CQ [Removed]

* * * * *

Paragraph 6004 Class E Airspace Areas Designated as an Extension to a Class D Surface Area.

* * * * *

AWP CQ E4 Saipan Island, CQ [Amended]

Saipan International Airport, CQ

(Lat. 15°07′08″ N., long. 145°43′46″ E.)

Saipan NDB

(Lat. 15°06′41″ N., long. 145°42′37″ E.)

That airspace extending upward from the surface within a 4.3-mile radius of Saipan International Airport and within 3-miles north and 2-miles south of the Saipan NDB 248° bearing, extending from the 4.3-mile radius to 8.5-miles southwest of the NDB and within 3-miles each side of the Saipan NDB 068° bearing extending from the 4.3-mile radius to 9-miles northeast of the NDB.

* * * * *

AWP GU E4 Guam Island, Agana NAS, GU [Removed]

* * * * *

AWP GU E4 Guam International Airport, GU [New]

Tiyan, Guam International Airport, GU

(Lat. 13°29′02″ N., long. 144°47′50″ E.)

Nimitz VORTAC

(Lat. 13°27′16″ N., long. 144°44′00″ E.)

That airspace extending upward from the surface within 2-miles each side of the Nimitz VORTAC 245° radial, extending from the 4.3-mile radius of Guam International Airport to 5 miles southwest of the Nimitz VORTAC.

* * * * *

AWP GU E4 Guam Island, GU [Removed]

* * * * *

AWP GU E4 Anderson AFB, GU [New]

Yigo, Andersen AFB, GU

(Lat. 13°35′02″ N., long. 144°55′48″ E.)

Tiyan, Guam International Airport, GU

(Lat. 13°29′02″ N., long. 144°47′50″ E.)

That airspace extending upward from the surface within 3-miles each side of the 065° bearing from Andersen AFB extending from the 4.3-mile radius of Andersen AFB to 8.5-miles northeast and that airspace within 2-miles north of and 3.5-miles south of the 245° bearing from Andersen AFB, extending from the 4.3-mile radius of the airport to 7.5-miles southwest of Andersen AFB, excluding the Guam International Airport Class D airspace area.

* * * * *

AWP CQ E4 Saipan Island, CQ [Amended]

Saipan International Airport, CQ

(Lat. 15°07′08″ N., long. 145°43′46″ E.)

Saipan NDB

(Lat. 15°06′41″ N., long. 145°42′37″ E.)

That airspace extending upward from the surface within a 4.3-mile radius of Saipan International Airport and within 3-miles north and 2-miles south of the Saipan NDB 248° bearing, extending from the 4.3-mile radius to 8.5-miles southwest of the NDB and within 3-miles each side of the Saipan NDB 068° bearing extending from the 4.3-mile radius to 9-miles northeast of the NDB.

* * * * *

Paragraph 6005 Class E Airspace Areas Extending Upward From 700 Feet or More Above the Surface of the Earth.

* * * * *

AWP GU E5 Guam Island, GU [Removed]

* * * * *

AWP E5 Northern Mariana Islands [New]

Yigo, Andersen AFB, GU

(Lat. 13°35′02″ N., long. 144°55′48″ E.)

Rota International Airport, CQ

(Lat. 14°10′28″ N., long. 145°14′28″ E.)

Saipan International Airport, CQ

(Lat. 15°07′08″ N., long. 145°43′46″ E.)

Tinian International Airport, CQ

(Lat. 14°59′57″ N., long. 145°37′10″ E.)

Nimitz VORTAC

(Lat. 13°27′16″ N., long. 144°44′00″ E.)

Saipan NDB

(Lat. 15°06′41″ N., long. 145°42′37″ E.)

That airspace extending upward from 700 feet above the surface within a 12-mile radius of Andersen AFB and within 12-miles each side of the 245° bearing from Andersen AFB extending from the 12-mile radius to 35 miles southwest of Andersen AFB and within an 8-mile radius of Rota International Airport and within a 12-mile radius of Saipan International Airport and within a 7-mile radius of the Tinian International Airport. That airspace extending upward from 1,200 feet above the surface within 100-mile radius of the Nimitz VORTAC and within a 35-mile radius of the Saipan NDB, excluding the portion that coincides with W-517.

* * * * *

Issued in Washington, DC, February 18, 2009.
Paul Gallant,
Acting Manager, Airspace and Rules Group.

[FR Doc. E9-3905 Filed 2-25-09; 8:45 am]

BILLING CODE 4910-13-P